DEPARTMENT OF LABOR

Employment and Training Administration

[TA-W-39, 667]

Wheeling-Pittsburgh Steel Corp. Wheeling, West Virginia; Notice of Termination of Investigation

Pursuant to Section 221 of the Trade Act of 1974, an investigation was initiated on July 23, 2001, in response to a petition filed by the United Steelworkers of America on behalf of workers at Wheeling-Pittsburgh Steel, Corp., Wheeling, West Virginia, Beech Bottom, West Virginia, Allenport, Pennsylvania, Steubenville, Ohio, Martins Ferry, Ohio, and Yorkville, Ohio.

The petitioning group of workers, in addition to the Wheeling-Pittsburgh Steel, Corp. workers in Beech Bottom, West Virginia, Allenport, Pennsylvania, Steubenville, Ohio, Martins Ferry, Ohio, and Yorkville, Ohio, are subject to an ongoing investigation for which a determination has not yet been issued [TA-W-39, 015]. Consequently, further investigation in this case would serve no purpose, and the investigation has been terminated.

Signed at Washington, DC this 20th day of August 2001.
Linda G. Poole,
Certifying Officer, Division of Trade Adjustment Assistance.

[FR Doc. 01-21842 Filed 8-28-01; 8:45 am]

BILLING CODE 4510-30-M